NATIONAL SCIENCE FOUNDATION

Advisory Committee for Integrative Activities; Notice of Meeting

In accordance with the Federal Advisory Committee Act (Pub. L. 92-463, as amended), the National Science Foundation announces the following meeting:

NAME: Advisory Committee for Integrative Activities—Major Research Infrastructure (MRI) Review (#1373).

DATES & TIMES: September 22-23, 2016; 8:00 a.m.-5:00 p.m.

PLACE: National Science Foundation, 4201 Wilson Blvd., Room II-575, Arlington, VA 22230.

TYPE OF MEETING: Closed.

CONTACT PERSON: Randy Phelps, Staff Associate, Office of Integrative Activities, National Science Foundation, 4201 Wilson Boulevard, Arlington, VA 22230, Telephone (703) 292-5049.

PURPOSE OF MEETING: To review the Major Research Infrastructure program's process, including examination of decisions on proposals, reviewer comments, and other relevant materials.

AGENDA:

September 22-23, 2016; 8:00 a.m.-5:00 p.m. (Closed).

Review and evaluate the Major Research Instrumentation Program and provide assessment of program level technical and managerial matters pertaining to proposal decisions and program operations.

REASON FOR CLOSING: The work being reviewed and evaluated includes information of a proprietary or confidential nature, including technical information; and information on personnel. These matters are exempt under 5 U.S.C. 552 b(c), (4) and (6) of the Government in the Sunshine Act.

Dated: August 16, 2016.
Crystal Robinson,
Committee Management Officer.

[FR Doc. 2016-19839 Filed 8-18-16; 8:45 am]

BILLING CODE 7555-01-P